NATIONAL AERONAUTICS AND SPACE ADMINISTRATION

[Notice (05-143)]

NASA Advisory Committee; Notice of Renewal

AGENCY: National Aeronautics and Space Administration (NASA).

ACTION: Notice of renewal of the charter for the NASA Advisory Council.

SUMMARY: Pursuant to sections 14(b)(1)and 9(c) of the Federal Advisory Committee Act (Public Law 92-463), and after consultation with the Committee Management Secretariat, General Services Administration, the Administrator of the National Aeronautics and Space Administration (NASA) has determined that a renewal and amendment of the Charter for the Agency-established NASA Advisory Council is necessary and in the public interest in connection with the performance of duties imposed upon NASA by law. In connection with this renewal, a number of amendments have been made to the Charter as part of the overall restructuring of the NASA Advisory Council. The purpose of the NASA Advisory Council is to provide advice and make recommendations to the NASA Administrator on Agency programs, policies, plans, financial controls and other matters pertinent to the Agency's responsibilities.

FOR FURTHER INFORMATION CONTACT: Ms. P. Diane Rausch, Office of External Relations, National Aeronautics and Space Administration, Washington, DC 20546, 202/358-4510.

Dated: September 14, 2005.
P. Diane Rausch,
Advisory Committee Management Officer, National Aeronautics and Space Administration.

[FR Doc. 05-18846 Filed 9-20-05; 8:45 am]

BILLING CODE 7510-13-P